DEPARTMENT OF ENERGY

Federal Energy Regulatory Commission

[Docket No. EL05-61-000]

Con Edison Energy, Inc., Complainant v. ISO New England, Inc., and New England Power Pool, Respondents; Notice of Complaint Request for Fast Track

February 3, 2005.

Take notice that on February 3, 2005, Con Edison Energy, Inc. (CEE) filed a Complaint against ISO New England, Inc. (ISO-NE) and the New England Power Pool (NEPOOL). Complainant requests that the Commission: (1) Order Respondents to immediately modify Market Rule 1 and NEPOOL Manual 20 to provide that participation in ISO-NE's monthly Unforced Capacity (UCAP) deficiency auctions shall be voluntary, and that excess UCAP not bid by participants shall not be included in such auctions; (2) direct Respondents not to themselves submit bids or dictate permissible bid prices in such auctions; and (3) direct Respondents not to conduct further monthly UCAP deficiency auctions until the changes in (1) and (2) have been effected.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: February 23, 2005.

Magalie R. Salas,
Secretary.

[FR Doc. E5-543 Filed 2-9-05; 8:45 am]

BILLING CODE 6717-01-P